DEPARTMENT OF TRANSPORTATION

Office of the Secretary

[Docket No. OST-00-7668]

Application of Boston-Maine Airways Corp. (d/b/a Pan Am Services) for Issuance of New Certificate Authority

AGENCY: Department of Transportation.

ACTION: Notice of Order to Show Cause (Order 200-9-17).

SUMMARY: The Department of Transportation is directing all interested persons to show cause why it should not issue an order (1) finding Boston-Maine Airways Corp. d/b/a Pan Am Services fit, willing, and able, and (2) awarding it a certificate to engage in interstate scheduled air transportation of persons, property, and mail, using small (less than 60 seats) aircraft.

DATES: Persons wishing to file objections should do so no later than September 29, 2000.

ADDRESSES: Objections and answers to objections should be filed in Docket OST-00-7668 and addressed to Department of Transportation Dockets (SVC-124, Room PL-401), 400 Seventh Street, SW., Washington, DC 20590 and should be served upon the parties listed in Attachment to the order.

FOR FURTHER INFORMATION CONTACT: Ms. Janet A. Davis, Air Carrier Fitness Division (X-56, Room 6401), Department of Transportation, 400 Seventh Street, SW., Washington, DC 20590, (202) 366-9721.

Dated: September 15, 2000.
Susan McDermott,
Deputy Assistant Secretary for Aviation and International Affairs.

[FR Doc. 00-24269 Filed 9-20-00; 8:45 am]

BILLING CODE 4910-62-P